DEPARTMENT OF LABOR

Employment And Training Administration

[TA-W-54,737]

General Electric Electromaterials, Coshocton, OH; Including Employees of General Electric Electromaterials, Coshocton, OH, Working in the States of: TA-W-54,737A Minnesota, TA-W-54,737B Washington; Amended Certification Regarding Eligibility To Apply for Worker Adjustment Assistance and Alternative Trade Adjustment Assistance

In accordance with section 223 of the Trade Act of 1974 (19 U.S.C. 2273) the Department of Labor issued a Certification of Eligibility To Apply for Worker Adjustment Assistance and Alternative Trade Adjustment Assistance on May 17, 2004, applicable to workers of General Electric Electromaterials, Coshocton, Ohio. The notice was published in the Federal Register on June 17, 2004 (69 FR 33942).

At the request of the State agency, the Department reviewed the certification for workers of the subject firm. New information shows that worker separations have occurred involving employees of General Electric Electromaterials, Coshocton, Ohio, working in Minnesota and Washington. These employees provide support function services for the production of bare printed circuit boards (PCBs) and rolls of mica paper produced at the Coshocton, Ohio, location of the subject firm.

Based on these findings, the Department is amending this certification to include employees of General Electric Electromaterials, Coshocton, Ohio, working in Minnesota and Washington.

The intent of the Department's certification is to include all workers of General Electric Electromaterials who were adversely affected by increased imports.

The amended notice applicable to TA-W-54,737 is hereby issued as follows:

All workers of General Electric Electromaterials, Coshocton, Ohio (TA-W-54,737), including employees of General Electric Electromaterials, Coshocton, Ohio, working in Minnesota (TA-W-54,737A) and Washington (TA-W-54,737B), who became totally or partially separated from employment on or after March 31, 2003, through May 17, 2006, are eligible to apply for adjustment assistance under section 223 of the Trade Act of 1974, and are also eligible to apply for alternative trade adjustment assistance under Section 246 of the Trade Act of 1974.

Signed at Washington, DC, this 26th day of October 2004.
Linda G. Poole,
Certifying Officer, Division of Trade Adjustment Assistance.

[FR Doc. E4-3141 Filed 11-10-04; 8:45 am]

BILLING CODE 4510-30-P